DEPARTMENT OF COMMERCE

National Oceanic and Atmospheric Administration (NOAA)

Science Advisory Board; Notice of Open Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Wednesday August 22, 2007, from 8:30 a.m. to 3:30 p.m. and Thursday August 23, 2007, from 10 a.m. to 3:45 p.m. These times and the agenda topics described below are subject to change. Please refer to the web page http://www.sab.noaa.gov/Meetings/meetings.html for the most up-to-date meeting agenda.

Place: The meeting will be held both days at the Mystic Hilton Hotel, 20 Coogan Boulevard, Mystic, Connecticut 06355, pending approval of a purchase order. Please check the SAB Web site http://www.sab.noaa.gov for confirmation of the venue.

Status: The meeting will be open to public participation with a 30-minute public comment period on August 22 (check Web site to confirm time). The SAB expects that public statements presented at its meetings will not be repetitive of previously submitted verbal or written statements. In general, each individual or group making a verbal presentation will be limited to a total time of five (5) minutes. Written comments (at least 35 copies) should be received in the SAB Executive Director's Office by August 15, 2007 to provide sufficient time for SAB review. Written comments received by the SAB Executive Director after August 15, 2007, will be distributed to the SAB, but may not be reviewed prior to the meeting date. Seats will be available on a first-come, first-served basis.

Matters To Be Considered: The meeting will include the following topics: (1) the Merger of the Ocean Exploration and National Undersea Research Programs; (2) the Results from the Ocean Exploration Advisory Working Group Workshop on Planning the Maiden Voyage of the Okeanos Explorer; (3) Nekton Studies around Bear Seamount; (4) Extended Continental Shelf Exploration; (5) Update on the NOAA Response to the External Review of NOAA's Ecosystem Research and Science Enterprise; (6) Report on the NOAA Response to the National Research Council Decadal Survey; (7) Update on the NOAA Response to the Hurricane Intensity Research Working Group Reports; (8) the Results of the SAB Climate Working Group's Climate Observations and Analysis Program Review; (9) Report on the Recommendations from the Data Archive and Access Requirements Working Group; and (10) Updates from SAB Working Groups on Partnerships, Fire Weather Research, and Social Science.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov); or visit the NOAA SAB Web site at http://www.sab.noaa.gov.

Dated: July 23, 2007.
Mark E. Brown
Chief Financial Officer and Chief Administrative Officer, Office of Oceanic and Atmospheric Research, National Oceanic and Atmospheric Administration.

[FR Doc. E7-14581 Filed 7-27-07; 8:45 am]

BILLING CODE 3510-KD-P